DEPARTMENT OF THE TREASURY

Customs Service

[T.D. 02-70]

Recordation of Trade Name: “Revolutionary Products, Inc.”

ACTION: Notice of application for recordation of trade name.

SUMMARY: Application has been filed pursuant to section 133.12, Customs Regulations (19 CFR 133.12), for the recordation under section 42 of the Act of July 5, 1946, as amended (15 U.S.C. 1124), of the trade name “REVOLUTIONARY PRODUCTS, INC”. The trade name is owned by Revolutionary Products, Inc., a California corporation, organized and created in the State of California, 12910 Culver Boulevard, Suite G, Los Angeles, California 90066.

The application states applicant manufactures, advertises, distributes and sells an electrically driven rotating mechanical hairbrush in packaging and boxes labeled with the REVO STYLER trademark and REVOLUTIONARY PRODUCTS, INC., tradename. Additionally, the trade name appears on a label affixed to the handle of the REVO STYLER hairbrush, and is molded into the plastic of the electrical power plug.

The merchandise is manufactured in China and Hong Kong.

Before final action is taken on the application, consideration will be give to any relevant data, views, or arguments submitted in writing by any person in opposition to the recordation of this trade name. Notice of the action taken on the application for recordation of this trade name will be published in the Federal Register.

DATES: Comments must be received or on before February 24, 2003.

ADDRESSES: Written comments should be addressed to U.S. Customs Service, Attention: Office of Regulations & Rulings, Intellectual Property Rights Branch, 1300 Pennsylvania Avenue, NW., (Mint Annex), Washington, DC 20229.

FOR FURTHER INFORMATION CONTACT: Gwendolyn Savoy, Intellectual Property Rights Branch, 1300, Pennsylvania Avenue, NW., Washington, DC 20229, (202) 572-8710).

Dated: December 18, 2002.
Joanne Roman Stump,
Chief, Intellectual Property Rights Branch.

[FR Doc. 02-32296 Filed 12-23-02; 8:45 am]

BILLING CODE 4820-02-P